DEPARTMENT OF STATE

[Public Notice 3514]

Bureau of Nonproliferation; Lifting of Nonproliferation Measures Against Two Russian Entities

AGENCY: Department of State.

ACTION: Notice.

SUMMARY: A determination has been made, pursuant to section 6 of Executive Order 12938 of November 14, 1994, as amended by Executive Order 13094 of July 28, 1998, to remove nonproliferation measures on two Russian entities.

EFFECTIVE DATE: November 17, 2000.

FOR FURTHER INFORMATION CONTACT: On general issues: Vann H. Van Diepen, Office of Chemical, Biological and Missile Nonproliferation, Bureau of Nonproliferation, Department of State, (202-647-1142). On import ban issues: Office of Foreign Assets Control, Department of the Treasury, (202-622-2500). On U.S. Government procurement ban issues: Gladys Gines, Office of the Procurement Executive, Department of State, (703-516-1691).

SUPPLEMENTARY INFORMATION: Pursuant to the authorities vested in the President by the Constitution and the laws of the United States of America, including the International Emergency Economic Powers Act (50 U.S.C. 1701 et seq.) (“IEEPA”), the National Emergencies Act (50 U.S.C. 1601 et seq.), the Arms Export Control Act (22 U.S.C. 2751 et seq.), and section 301 of title 3, United States Code, and Section 6 of Executive Order 12938 of November 14, 1994, as amended, a determination was made on November 17, 2000, that it is in the foreign policy and national security interests of the United States to remove the restrictions imposed July 30, 1998, on the following Russian entities, their sub-units and successors, pursuant to Sections 4(b), 4(c), and 4(d) of the Executive Order: INOR Scientific Institute; and Polyus Scientific Production Association.

Dated: December 4, 2000.
Robert J. Einhorn,
Assistant Secretary of State for Nonproliferation.

[FR Doc. 00-32313 Filed 12-18-00; 8:45 am]

BILLING CODE 4710-25-P